Title 3—

The President

Proclamation 9170 of September 19, 2014

National Farm Safety and Health Week, 2014

By the President of the United States of America

A Proclamation

Across our Nation, farmers and ranchers labor through difficult and often dangerous conditions to write their chapter in the narrative that sustains our Union. It is the story of hard work and ingenuity that built our country—of a farmer who stretches the last moments of daylight to tend his crops and a rancher who gathers her herd and teaches her son the family trade. It is the story of America's agricultural sector, which powers progress in our rural communities and moves our Nation forward. As we recognize National Farm Safety and Health Week, we pay tribute to our agriculturists and renew our efforts to ensure their safety.

America depends on our farmers and ranchers to clothe our families, feed our people, and fuel our cars and trucks. And with their determined spirit and know-how, they have bolstered our economy with the strongest 5-year stretch of farm exports in our history. To support this vital industry and build on its record growth, this year I signed the Farm Bill, which lifts up small ranches and family farms by investing in farmers markets and organic agriculture. It also provides crop insurance, so that when disasters strike, our farmers do not lose everything they have worked to build.

While our farmers and ranchers are the best in the world, agriculture remains one of our country's most hazardous industries. Producers and their families are exposed to numerous safety and health dangers—from vehicular fatalities and heat-related illnesses to injuries from falls and sicknesses from exposure to pesticides and chemicals. With preparation and proper training, these risks can be limited and lives can be saved. That is why my Administration continues to pursue innovative and comprehensive ways to lessen these hazards. We have invested in programs that improve youth farm safety, and last year, we announced plans to support the development of a national safety training curriculum for young agricultural workers.

This week, we salute all those who carry forward our Nation's proud tradition on sprawling ranches and cross-hatched fields. Let us recommit to raising awareness of the dangers they face and doing our part to protect their health and well-being. Together, we can ensure a safer future for this great American industry.

NOW, THEREFORE, I, BARACK OBAMA, President of the United States of America, by virtue of the authority vested in me by the Constitution and the laws of the United States, do hereby proclaim September 21 through September 27, 2014, as National Farm Safety and Health Week. I call upon the agencies, organizations, businesses, and extension services that serve America's agricultural workers to strengthen their commitment to promoting farm safety and health programs. I also urge Americans to honor our agricultural heritage and express appreciation to our farmers, ranchers, and farmworkers for their contributions to our Nation.

IN WITNESS WHEREOF, I have hereunto set my hand this nineteenth day of September, in the year of our Lord two thousand fourteen, and of the Independence of the United States of America the two hundred and thirty-ninth.

[FR Doc. 2014-22815

Filed 9-23-14; 8:45 am]

Billing code 3295-F4